DEPARTMENT OF HEALTH AND HUMAN SERVICES

Centers for Disease Control and Prevention

[60Day-02-53]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Support for State Oral Disease Prevention Program Infrastructure Development Evaluation Reporting—New—National Center for Chronic Disease Prevention and Health Promotion (NCCDPHP), Centers for Disease Control and Prevention (CDC).

In 2000, the Surgeon General published the first ever report on oral health in America to alert Americans to the full meaning of oral health and its importance to general health and well-being. Included in the framework for action was the charge to build an effective oral health infrastructure that meets the oral health needs of all Americans and integrates oral health effectively into overall health planning. In response, the CDC will award funds for cooperative agreements to an estimated total of 13 demonstration sites in two phases, for the planning and implementation of oral health capacity infrastructure building and demonstration delivery programs. Building infrastructure enables the demonstration states to develop the capacity to achieve Healthy People 2010 objectives and reach many more Americans than a single local program could reach and to potentially sustain health gains beyond the funding cycle. Infrastructure development encompasses many activities, each of which can be accomplished in a myriad of methods by the grantees. To summarize and track vital development information across grantee sites, a uniform reporting system must be established for the demonstration sites. Obtaining uniform data will allow the construction of summary reports to assist future sites and not-yet-funded oral health infrastructure development programs.

Evaluation tracking reporting for this project would describe the implementation of each site's infrastructure model in relation to environmental context and state characteristics. The results would provide evidence for the essential implementation strategies for effective infrastructure development as defined by the consensus-based Association of State and Territorial Dental Directors (ASTDD) model. The results would be used to structure flexible guidelines for infrastructure development and identify high-priority activities enabling additional sites to efficiently plan and implement cost-effective oral health improvement activities. Additionally, this project will assist in the development of objectives and indicators of sustainability—the ability of these demonstration programs to meet the needs of their constituents beyond the seed-funding period.

The objectives of the uniform evaluation tracking reporting system are to:

1. Evaluate infrastructure development activity characteristics among the funded sites.

2. Synthesize progress and promote cross-collaboration among grantees.

3. Make progress indicators available to nonfunded sites

4. Promote positive infrastructure growth among funded and non-funded sites.

The above objectives will be attained through a family of uniform evaluation reporting documents designed to evaluate demographic, extent, and culture climate of infrastructure development activities. One respondent from each site will be required to submit the activity-tracking document annually. Participation is mandatory for funded sites. Non-funded sites actively involved in infrastructure development are welcome to submit tracking information to further provide information for all sites. Participation is not mandatory for non-funded sites.

The CDC anticipates that approximately 13 grantee sites will report annually using this method. It has been estimated that the completion of the required forms will take approximately 45 minutes each reporting period. There are no cost to respondents except there time.

Form name | Number of respondents | Number of responses/response | Average burden/response (in hours) | Total burden (in hours)
Support for State Oral Disease Prevention Program Infrastructure Development Evaluation Reporting Activity | 13 | 1 | 45/60 | 10
Total |  |  |  | 10

Dated: May 9, 2002.
Nancy E. Cheal,
Acting Associate Director for Policy, Planning and Evaluation, Centers for Disease Control and Prevention.

[FR Doc. 02-12514 Filed 5-17-02; 8:45 am]

BILLING CODE 4163-18-P